ENVIRONMENTAL PROTECTION AGENCY

[OW-FRL-7890-5]

Beaches Environmental Assessment and Coastal Health Act

AGENCY: Environmental Protection Agency (EPA).

ACTION: Notice of availability of grants for implementation of coastal recreation water monitoring and public notification under the Beaches Environmental Assessment and Coastal Health Act.

SUMMARY: The Beaches Environmental Assessment and Coastal Health (BEACH) Act, signed into law on October 10, 2000, amended the Clean Water Act (CWA), to incorporate provisions to reduce the risk of illness to users of the Nation's recreational waters. Section 406(b) of the CWA, as amended by the BEACH Act, authorizes the U.S. Environmental Protection Agency (EPA) to award program development and implementation grants to eligible States, Territories, Tribes, and local governments to support microbiological testing and monitoring of coastal recreation waters, including the Great Lakes, that are adjacent to beaches or similar points of access used by the public. BEACH Act grants also support development and implementation of programs to notify the public of the potential exposure to disease-causing microorganisms in coastal recreation waters. EPA encourages coastal States and Territories to apply for BEACH Act grants for program implementation (referred to as implementation grants) to implement effective and comprehensive coastal recreation water monitoring and public notification programs. EPA also encourages coastal Tribes to apply for BEACH Act grants for program development (referred to as development grants) to develop effective and comprehensive coastal recreation water monitoring and public notification programs.

DATES: States and Territories must submit applications on or before June 27, 2005. Eligible tribes should notify the relevant Regional BEACH Act grant coordinator of their interest in applying on or before June 27, 2005. Upon receipt of a tribe's notice of interest, EPA will establish an appropriate application deadline.

ADDRESSES: You must send your application to the appropriate Regional Grant Coordinator listed in this notice under SUPPLEMENTARY INFORMATION section VI.

FOR FURTHER INFORMATION CONTACT: Rich Healy, 1200 Pennsylvania Ave., NW., (4305T), Washington, DC 20460, (202) 566-0454, healy.richard@epa.gov.

SUPPLEMENTARY INFORMATION:

I. Grant Program

What Is the Statutory Authority for BEACH Act Grants?

The general statutory authority for BEACH Act grants is section 406(b) of the Clean Water Act, as amended by the BEACH Act, Public Law 106-284, 114 Stat. 970 (2000). It provides: “The Administrator may make grants to States and local governments to develop and implement programs for monitoring and notification for coastal recreation waters adjacent to beaches or similar points of access that are used by the public.” CWA section 406(b)(2)(A), however, limits EPA's ability to award implementation grants only to those States, Tribes and Territories that meet certain requirements (see Section II, Funding and Eligibility, below for information on specific requirements).

What Activities Are Eligible for Funding Under the FY 2005 Grants?

In fiscal year 2005, EPA intends to award grants authorized under CWA section 406(b) to eligible States and Territories to support the implementation of coastal recreation water monitoring and public notification programs that are consistent with EPA's required performance criteria for implementation grants. Also in fiscal year 2005, EPA intends to award development grants to eligible tribes to support the development of coastal recreation water monitoring and public notification programs that are consistent with EPA's performance criteria for grants. EPA published the required performance criteria for grants in National Beach Guidance and Required Performance Criteria for Grants, (EPA-823-B-02-004), on July 19, 2002. A notice of availability of the document was published in the Federal Register (67 FR 47540, July 19, 2002). You can find this document on EPA's Web site at http://www.epa.gov/waterscience/beaches/grants. You can also get copies of the document by writing, calling, or e-mailing: Office of Water Resources Center, U.S. Environmental Protection Agency, Mail Code 4100T, 1200 Pennsylvania Avenue, NW., Washington, DC 20460. (Phone: (202) 566-1731 or e-mail: center.water-resource@epa.gov).

II. Funding and Eligibility

Who Is Eligible To Apply for These Implementation Grants?

Coastal and Great Lake States that meet the requirements of CWA section 406(b)(2)(A) are eligible for grants in fiscal year 2005 to implement monitoring and notification programs. The term “State” is defined in CWA section 502 to include the District of Columbia, the Commonwealth of Puerto Rico, the Virgin Islands, Guam, American Samoa, the Commonwealth of the Northern Mariana Islands, and the Trust Territory of the Pacific Islands. However, the Trust Territory of the Pacific Islands no longer exists. The Marshall Islands, the Federated States of Micronesia, and Palau, which were previously entities within the Trust Territory of the Pacific Islands, have entered into Compacts of Free Association with the Government of the United States. As a result, each is now a sovereign, self-governing entity and, as such, is no longer eligible to receive grants as a Territory or possession of the United States.

Are Local Governments Eligible for Funding?

CWA section 406(b)(2)(B) authorizes EPA to make a grant to a local government for implementation of a monitoring and notification program only if, after the one-year period beginning on the date of publication of the performance criteria (July 19, 2002), EPA determines that the State within which the local government has jurisdiction is not implementing a program that meets the requirements of CWA section 406(b), which includes a requirement that the program is consistent with the performance criteria in National Beach Guidance and Required Performance Criteria for Grants. Therefore, July 19, 2003, was the earliest date that local governments would have been eligible for implementation grants. EPA has not determined that any State is implementing the program inconsistent with the requirements in section 406(b). Local governments may contact their EPA Regional office for further information about BEACH Act grants.

How May Tribes Apply for BEACH Act Development Grants and How Much Funding Is Available for Tribes?

Section 518(e) of the CWA authorizes EPA to treat eligible Indian Tribes in the same manner as States for the purpose of receiving CWA section 406 grant funding. For fiscal year 2005, EPA will make $50,000 available for development grants to eligible tribes. In order to be eligible for a CWA section 406 development grant, a tribe must have coastal recreation waters adjacent to beaches or similar points of access that are used by the public. The phrase “coastal recreation waters” is defined in CWA section 502(21) to mean the Great Lakes and marine coastal waters (including coastal estuaries) that are designated under CWA section 303(c) for use for swimming, bathing, surfing, or similar water contact activities. The statute explicitly excludes from the definition inland waters and waters upstream of the mouth of a river or stream having an unimpaired natural connection with the open sea. In addition, a tribe must meet the requirements in CWA section 518 for treatment in a manner similar to a State for purposes of receiving a CWA section 406 grant. EPA encourages those tribes with coastal recreation waters to contact their regional Beach Act grant coordinator for further information regarding the application process as soon as possible.

Are There Any Additional Eligibility Requirements and Grant Conditions Applicable to States, Tribes, and Territories?

Yes, there are additional eligibility requirements and grant conditions. First, CWA section 406(b)(2)(A) provides that EPA may only award a grant to implement a monitoring and notification program if:

(i) The program is consistent with the performance criteria published by the Administrator under CWA section 406(a);

(ii) The State or local government prioritizes the use of grant funds for particular coastal recreation waters based on the use of the water and the risk to human health presented by pathogens or pathogen indicators;

(iii) The State or local government makes available to the Administrator the factors used to prioritize the use of funds under clause (ii);

(iv) The State or local government provides a list of discrete areas of coastal recreation waters that are subject to the program for monitoring and notification for which the grant is provided that specifies any coastal recreation waters for which fiscal constraints will prevent consistency with the performance criteria under CWA section 406(a); and

(v) The public is provided an opportunity to review the program through a process that provides for public notice and an opportunity for comment.

Second, CWA section 406(c) requires that as a condition of receipt of a CWA section 406 grant, a State or local government program for monitoring and notification must identify:

(1) Lists of coastal recreation waters in the State, including coastal recreation waters adjacent to beaches or similar points of access that are used by the public;

(2) In the case of a State program for monitoring and notification, the process by which the State may delegate to local governments responsibility for implementing the monitoring and notification program;

(3) The frequency and location of monitoring and assessment of coastal recreation waters based on—

(A) The periods of recreational use of the waters;

(B) The nature and extent of use during certain periods;

(C) The proximity of the waters to known point sources and nonpoint sources of pollution; and

(D) Any effect of storm events on the waters;

(4)(A) The methods to be used for detecting levels of pathogens and pathogen indicators that are harmful to human health; and

(B) The assessment procedures for identifying short-term increases in pathogens and pathogen indicators that are harmful to human health in coastal recreation waters (including increases in relation to storm events);

(5) Measures for prompt communication of the occurrence, nature, location, pollutants involved, and extent of any exceeding of, or likelihood of exceeding, applicable water quality standards for pathogens and pathogen indicators to—

(A) The Administrator, in such form as the Administrator determines to be appropriate; and

(B) A designated official of a local government having jurisdiction over land adjoining the coastal recreation waters for which the failure to meet applicable standards is identified;

(6) Measures for the posting of signs at beaches or similar points of access, or functionally equivalent communication measures that are sufficient to give notice to the public that the coastal recreation waters are not meeting or are not expected to meet applicable water quality standards for pathogens and pathogen indicators; and

(7) Measures that inform the public of the potential risks associated with water contact activities in the coastal recreation waters that do not meet applicable water quality standards.

Third, as required by CWA section 406(b)(3)(A), a State recipient of a CWA section 406 grant must submit to EPA, in such format and at such intervals as EPA determines to be appropriate, a report that describes:

(1) Data collected as part of the program for monitoring and notification as described in section 406(c), and

(2) Actions taken to notify the public when water quality standards are exceeded. In the Federal Register notice for fiscal year 2003 grants, EPA established the deadline for States to submit the monitoring report and the notification report for any beach season as January 31st of the year following the beach season (68 FR 15446, 15449 (March 31, 2003)).

Fourth, as required in the Federal Register notices for CWA section 406 grants in fiscal years 2003 and 2004, States were required to report to EPA, as a condition of their fiscal year 2003 grants, latitude, longitude and mileage data on:

(1) The extent of beaches and similar points of public access adjacent to coastal recreation waters, and

(2) The extent of beaches that are monitored. (68 FR 15446, 15447) (69 FR 24592, May 4, 2004).

How Much Funding Is Available?

For fiscal year 2005,the total available for BEACH Act grants is $9.920 million. EPA expects to award $9.870 million in implementation and development grants to eligible States and Territories. In addition, EPA intends to award $50,000 in development grants to eligible Tribes.

How Will the Funding for States and Territories Be Allocated?

EPA expects to award grants to all eligible States and Territories who apply for funding based on an allocation formula that the Agency developed for allocating BEACH Act grant funds in 2002. EPA consulted with various States, the Coastal States Organization, and the Association of State and Interstate Water Pollution Control Administrators (ASIWPCA) to develop this formula. It uses three factors that are readily available and verifiable: (1) beach season length, (2) beach miles, and (3) beach use.

(1) Beach Season Length

EPA selected beach season length as a factor because it determines the part of the year when a government would conduct its monitoring program. The longer the beach season, the more resources a government would need to conduct monitoring. The Agency obtained the information on the length of a beach season from the National Health Protection Survey of Beaches for the States or Territories that submitted a completed survey. EPA estimated the beach season length for American Samoa, Oregon, Puerto Rico, and Northern Mariana Islands based on the season reported by nearby States and Territories. EPA estimated the beach season length for Alaska based on air and water temperature, available information on recreation activities, and data from the 1993 National Water Based Recreation Survey. EPA grouped the States and U.S. Territories into four categories of beach season lengths:

For beaches in: | The beach season category is:
Alaska | < 3 months.
Connecticut, Delaware, Illinois, Indiana, Maine, Maryland, Massachusetts, Michigan, Minnesota, New Hampshire, New Jersey, New York, Ohio, Oregon, Pennsylvania, Rhode Island, months Virginia, Washington, Wisconsin | 3-4 months.
Alabama, Georgia, Louisiana, Mississippi, North Carolina, South Carolina | 5-6 months.
American Samoa, California, Florida, Guam, Hawaii, Northern Mariana, Puerto Rico, Texas, U.S. Virgin Islands | 9-12 months.

(2) Beach Miles

EPA selected miles of beach as a factor because it determines the geographical extent over which a government would conduct monitoring. The more miles of beaches, the more resources a government would need to conduct monitoring. EPA does not have complete and verified beach mileage data at this time. Therefore, in the interim, EPA is using shoreline miles as a surrogate for beach miles in the allocation formula. Shoreline miles data overestimates beach miles in some States and Territories; however, EPA and States agreed that this is the best beach estimate available at this time. EPA used the National Oceanic and Atmospheric Administration (NOAA) publication, The Coastline of the United States, to quantify shoreline miles. Next year, EPA intends to use beach miles (reported by States and Territories) rather than shoreline miles. EPA will also use beach miles information to periodically update the CWA section 406(g) list (also known as the National List of Beaches—document number, EPA-823-R-04-004).

(3) Beach Use

EPA selected beach use as a factor because it reflects the importance of beach-related tourism to the local economy. Greater use of beaches makes it more likely that a government would need to conduct monitoring more frequently due to the larger number of people that might be exposed to pathogens. EPA continues to use the coastal population of counties (based on the 2000 Census data) to quantify the coastal population that is wholly or partially within the State's or Territory's legally defined coastal zone, as a surrogate for actual beach usage.

The grants allocation formula sums three parts. The first part is a base amount for all States and Territories that varies with the length of the beach season. The second part distributes 50% of the total remaining funds based on the ratio of shoreline miles in a State or Territory to the total length of shoreline miles. For example, if a State has 4% of the total coastal and Great Lakes shoreline, that State would receive 4% of 50% or 2% of total funds remaining after the Agency distributed the funds for part one. The third part distributes the remaining 50% based on the ratio of coastal population in a State or Territory to the total coastal population. For example, if a State has 2% of the total coastal and Great Lakes population, that State would receive 2% of 50% or 1% of the total funds remaining after the Agency distributes the funds for the first two parts. The following table summarizes the allocation formula:

For the factor: | The part of the allocation is:
Beach season length | < 3 months: $150,000 (States and Territories with a season <3 months receive season-based funding only.)
| 3-4 months: $200,000.
| 5-6 months: $250,000.
| >6 months: $300,000.
Shoreline miles | 50% of funds remaining after allocation of season-based funding.
Coastal population | 50% of funds remaining after allocation of season-based funding.

For 2005, the total available for BEACH Act grants to States and Territories is $9.870 million. Assuming all 35 States and Territories with coastal recreation waters apply and meet the statutory eligibility requirements for implementation grants (and have met the statutory grant conditions applicable to previously awarded section 406 grants), the distribution of the funds for year 2005 would be:

For the State or territory of: | The year 2005 allocation is:
Alabama | $262,650
Alaska | 150,000
American Samoa | 302,230
California | 525,460
Connecticut | 224,290
Delaware | 211,170
Florida | 537,390
Georgia | 287,620
Guam | 302,710
Hawaii | 323,930
Illinois | 244,630
Indiana | 206,030
Louisiana | 326,780
Maine | 256,880
Maryland | 271,970
Massachusetts | 256,580
Michigan | 281,530
Minnesota | 204,440
Mississippi | 257,810
New Hampshire | 204,710
New Jersey | 280,780
New York | 354,580
North Carolina | 304,540
Northern Mariana | 303,470
Ohio | 224,580
Oregon | 229,910
Pennsylvania | 223,410
Puerto Rico | 329,570
Rhode Island | 213,140
South Carolina | 298,490
Texas | 386,150
U.S. Virgin Islands | 303,310
Virginia | 279,920
Washington | 273,080
Wisconsin | 226,260

EPA expects that all 35 States and Territories will apply. If fewer than 35 States and Territories apply for the allocated amount, or if any applicant fails to meet the statutory eligibility requirements (or the statutory conditions applicable to previously awarded section 406 grants), then EPA will distribute available grant funds to eligible States and Territories in the following order:

(1) States that meet the eligibility requirements for implementation grants and that have met the statutory conditions applicable to previously awarded section 406 grants will be awarded the full amount of funds allocated to the State under the formula described above.

(2) States that have not met the requirements for implementation grants but have met the statutory requirements and grant conditions applicable to previously awarded section 406 grants may receive grants for continued program development. Any program development grants that the Agency awards will be for the limited purpose of completing work needed to qualify for implementation grants. Therefore, we expect that funding levels for continued program development grants will be lower than the amount allocated for program implementation grants.

(3) EPA may award program implementation grants to local governments in States that the Agency determines have not met the requirements for implementation grants.

(4) Should there be any remaining funds, EPA may award these funds to those States that have met the statutory requirements for implementation grants, as well as the statutory grant conditions of previous section 406 grants, using the criteria in the allocation formula.

How Will the Funding for Tribes Be Allocated?

EPA expects to apportion the funds set aside for tribal grants evenly among all eligible tribes that apply for funding.

What Is the Expected Duration of Funding and Projects?

The expected funding and project period for implementation grants awarded in fiscal year 2005 is one year.

Does EPA Require Matching Funds?

Recipients do not have to provide matching funds for these Implementation Grants. EPA may establish a match requirement in the future based on a review of State program activity and funding levels.

What If a State Cannot Use All of Its Allocation?

If a State, Tribe, or Territory cannot use all of its allocation, the Regional Administrator may award the unused funds to any eligible coastal or Great Lake grant recipient in the Region for the continued development or implementation of their coastal recreation water monitoring and notification program(s). If, after re-allocations, there are still unused funds within the Region, EPA Headquarters will redistribute these funds to any eligible coastal or Great Lake grant recipient.

III. Eligible Activities

Recipients of implementation grants may use funds for activities to support implementing a beach monitoring and notification program that is consistent with the required performance criteria for grants specified in the document, National Beach Guidance and Required Performance Criteria for Grants, (document number: EPA-823-B-02-004). Recipients of development grants may use the funds to develop a beach monitoring and notification program consistent with the performance criteria.

IV. Selection Process

EPA Regional offices will award CWA section 406 grants through a non-competitive process. EPA expects to award grants to all eligible State, Tribe, and Territory applicants that meet the applicable requirements described in this notice.

Who Has the Authority To Award BEACH Act Grants?

The Administrator has delegated the authority to award BEACH Act grants to the Regional Administrators.

V. Application Procedure

What Is the Catalog of Federal Domestic Assistance (CFDA) Number for the BEACH Monitoring and Notification Program Implementation Grants?

The number assigned to the BEACH Act Grants is 66.472, Program Code CU.

Can BEACH Act Grant Funds Be Included in a Performance Partnership Grant?

For fiscal year 2005, BEACH Act Grants cannot be included in a Performance Partnership Grant.

What Is the Application Process for States and Territories?

Your application package should contain completed:

• EPA SF-424 Application for Federal Assistance

• Program Summary

• Data Submission Plan, and

In order for EPA to determine that a State or local government is eligible for an implementation grant, the applicant must submit documentation with its application to demonstrate that its program is consistent with the performance criteria. The Program Summary must contain sufficient technical detail for EPA to confirm that your program meets the statutory eligibility requirements and statutory grant conditions for previously awarded CWA section 406 grants listed in section II (Funding and Eligibility) of this notice. The Program Summary must also describe how the State used BEACH Act Grant funds to develop the beach monitoring and notification program, and how the program has met the nine performance criteria in National Beach Guidance and Required Performance Criteria for Grants, (EPA-823-B-02-004). The Program Summary should also describe your program's objectives for the next year.

The Data Submission Plan describes the State data infrastructure and how the State plans to submit beach monitoring and notification data to EPA. For those States who have already submitted their Data Submission Plan, updates and amendments to the Plan may be submitted. More information on both the Program Summary and Data Submission Plan is available at http://www.epa.gov/waterscience/beaches/grants/.

States and territories must submit application packages to the appropriate EPA Regional Office by June 27, 2005. EPA will make an award after the Agency reviews the documentation and confirms that the program meets the applicable requirements. The Office of Management and Budget has authorized EPA to collect this information (BEACH Act Grant Information Collection Request, OMB control number 2040-0244). Please contact the appropriate EPA Regional Office for a complete application package. See Section VI for a list of EPA Regional Grant Coordinators or visit the EPA Beach Watch Web site at http://www.epa.gov/waterscience/beaches/contact.html on the Internet.

What Should a Tribe's Notice of Interest Contain?

The Notice of Intent should include the tribe's name and the name and telephone number of a contact person.

Are Quality Assurance and Quality Control (QA/QC) Required for Application?

Yes. Three specific QA/QC requirements must be met to comply with EPA's performance criteria for grants:

(1) Applicants must submit documentation that describes the quality system implemented by the State, Tribe, or local government. Documentation may be in the form of a Quality Management Plan or equivalent documentation.

(2) Applicants must submit a quality assurance project plan (QAPP) or equivalent documentation.

(3) Applicants are responsible for submitting documentation of the quality system and QAPP for review and approval by the EPA Quality Assurance Officer or his designee before they take primary or secondary environmental measurements. More information about the required QA/QC procedures is available in Chapter Four and Appendix H of National Beach Guidance and Required Performance Criteria for Grants (EPA-823-B-02-004).

Are There Reporting Requirements?

Recipients must submit annual performance reports and financial reports as required in 40 CFR 31.40 and 31.41. The annual performance report explains changes to the beach monitoring and notification program during the grant year. It also describes how the grant funds were used to implement the program to meet the performance criteria listed in National Beach Guidance and Required Performance Criteria for Grants (EPA-823-B-02-004). The annual performance report required under 40 CFR 31.40 is due no later than 90 days after the grant year. Recipients must also submit annual monitoring and notification reports required under by the National Beach Guidance and Required Performance Criteria for Grants; (EPA-823-B-02-004). Sections 2.2.3 and 4.3 of the document contain the performance criterion requiring an annual monitoring report, and sections 2.2.8 and 5.4 contain the performance criterion requiring an annual notification report. The required monitoring and notification data are described at http://www.epa.gov/waterscience/beaches/grants/. These reports, required to be submitted to EPA by States, Tribes and Territories under CWA section 406(b)(3)(A), include data collected as part of a monitoring and notification program. As a condition of award of an implementation grant, EPA requires that the monitoring report and the notification report for any beach season be submitted not later than January 31 of the year following the beach season. (See section II, Funding and Eligibility, above.)

What Regulations and OMB Cost Circular Apply to the Award and Administration of These Grants?

The regulations at 40 CFR part 31 govern the award and administration of grants to States, tribes, local governments, and Territories under CWA sections 406(b). Allowable costs will be determined according to the cost principles outlined in OMB Cost Circular A-87.

VI. Grant Coordinators

Headquarters—Washington, DC

Rich Healy USEPA, 1200 Pennsylvania Ave., NW.—4305, Washington, DC 20460; T: (202) 566-0405; F: (202) 566-0409; healy.richard@epa.gov.

Region I—Connecticut, Maine, Massachusetts, New Hampshire, Rhode Island

Matt Liebman USEPA Region I, One Congress Street, Ste. 1100—CWQ, Boston, MA 02114-2023; T: (617) 918-1626; F: (617) 918-1505; liebman.matt@epa.gov.

Region II—New Jersey, New York, Puerto Rico, U.S. Virgin Islands

Helen Grebe USEPA Region II, 2890 Woodbridge Avenue, MS220, Edison, NJ 08837-3679; T: (732) 321-6797; F: (732) 321-6616; grebe.helen@epa.gov.

Region III—Delaware, Maryland, Pennsylvania, Virginia

Tiffany Crawford USEPA Region III, 1650 Arch Street 3ES10, Philadelphia, PA 19103-2029; T: (215) 814-5776; F: (215) 814-2301; crawford.tiffany@epa.gov.

Region IV—Alabama, Florida, Georgia, Mississippi, North Carolina, South Carolina

Joel Hansel USEPA Region IV, 61 Forsyth Street, 15th Floor, Atlanta, GA 30303-3415; T: (404) 562-9274; F: (404) 562-9224; hansel.joel@epa.gov.

Region V—Illinois, Indiana, Michigan, Minnesota, Ohio, Wisconsin

Holly Wirick USEPA Region V, 77 West Jackson Boulevard, WT-16J, Chicago, IL 60604-3507; T: (312) 353-6704; F: (312) 886-0168; wirick.holiday@epa.gov.

Region VI—Louisiana, Texas

Mike Schaub USEPA Region VI, 1445 Ross Avenue, 6WQ-EW, Dallas, TX 75202-2733; T: (214) 665-7314; F: (214) 665-6689; schaub.mike@epa.gov.

Region IX—American Soma, Commonwealth of the Northern Mariana Islands, California, Guam, Hawaii

Terry Fleming USEPA Region IX, 75 Hawthorne Street WTR-2, San Francisco, CA 94105; T: (415) 972-3462; F: (415) 947-3537; fleming.terrence@epa.gov.

Region X—Alaska, Oregon, Washington

Rob Pedersen USEPA Region X, 120 Sixth Avenue, OW-134, Seattle, WA 98101; T: (206) 553-1646; F: (206) 553-0165; pedersen.rob@epa.gov.

Dated: March 15, 2005.
Benjamin H. Grumbles,
Assistant Administrator of Water.

[FR Doc. 05-6194 Filed 3-28-05; 8:45 am]

BILLING CODE 6560-50-P